DEPARTMENT OF JUSTICE

Office of the Assistant Attorney General for Civil Rights; Certification of the State of Maryland Accessibility Code Under the Americans With Disabilities Act

AGENCY: Department of Justice.

ACTION: Notice of certification of equivalency.

SUMMARY: The Department of Justice (Department) has determined that the Maryland Accessibility Code, under .05.02.02 of the Code of Maryland Regulations (COMAR), as adopted pursuant to Article 83B, section of 6-102 of the Annotated Code of Maryland (together, the Maryland law), meets or exceeds the new construction and alterations requirements of title III of the Americans with Disabilities Act of 1990 (ADA). The Department has issued a certification of equivalency, pursuant to 42 U.S.C. 12188(b)(1)(A)(ii) and 28 CFR 36.601 et seq., which constitutes rebuttable evidence, in any enforcement proceeding, that a building constructed or altered in accordance with the Maryland law meets or exceeds the requirements of the ADA.

DATES: March 5, 2004.

FOR FURTHER INFORMATION CONTACT: John L. Wodatch, Chief, Disability Rights Section, Civil Rights Division, U.S. Department of Justice, 950 Pennsylvania Avenue, NW., 1425 NYA Building, Washington, DC 20530. Telephone number (800) 514-0301 (Voice) or (800) 514-0383 (TTY).

Copies of this notice are available in formats accessible to individuals with vision impairments and may be obtained by calling (800) 514-0301 (Voice) or (800) 514-0383 (TTY).

SUPPLEMENTARY INFORMATION:

Background

The ADA authorizes the Department of Justice, upon application by a State or local government, to certify that a State or local law that establishes accessibility requirements meets or exceeds the minimum requirements of title III of the ADA for new construction and alterations. 42 U.S.C. 12188(b)(1)(A)(ii); 28 CFR 36.601 et seq. Final certification constitutes rebuttable evidence, in any ADA enforcement action, that a building constructed or altered in accordance with the certified code complies with the new construction and alterations requirements of title III of the ADA.

The Maryland Department of Housing and Community Development requested that the Department of Justice (Department) certify that the Maryland Accessibility Code, under .05.02.02 of the Code of Maryland Regulations (COMAR), as adopted pursuant to Article 83B, section 6-102 of the Annotated Code of Maryland (together, the Maryland law), meets or exceeds the new construction and alterations requirements of title III of the ADA.

The Department has analyzed the Maryland law and has preliminarily determined that it meets or exceeds the new construction and alterations requirements of title III of the ADA. By letter dated May 29, 2003, the Department notified the Maryland Department of Housing and Community Development of its preliminary determination of equivalency.

On August 15, 2003, the Department published notices in the Federal Register announcing its preliminary determination of equivalency and requesting public comments thereon. The period for submission of written comments ended on October 15, 2003. In addition, the Department held public hearings in Ellicott City, Maryland on September 4, 2003, and in Washington, DC on October 22, 2003.

Four individuals provided comments. The commenters included government officials, disability rights advocates, and design professionals. The Department has analyzed all of the submitted comments and has consulted with the U.S. Architectural and Transportation Barriers Compliance Board.

All of the comments supported certification of the Maryland law. Based on these comments, the Department has determined that the Maryland law is equivalent to the new construction and alterations requirements of title III of the ADA. Therefore, the Department has informed the submitting official of its decision to certify the Maryland law.

Effect of Certification

The certification determination will be limited to the version of the Maryland law that has been submitted to the Department. The certification will not apply to amendments or interpretations that have not been submitted and reviewed by the Department.

Certification will not apply to buildings constructed by or for State or local government entities, which are subject to title II of the ADA. Nor does certification apply to accessibility requirements that are addressed by the Maryland law that are not addressed by the ADA Standards for Accessible Design.

Finally, certification does not apply to variances or waivers granted under the Maryland law. Therefore, if a builder receives a variance, waiver, modification, or other exemption from the requirements of the Maryland law for any element of construction or alterations, the certification determination will not constitute evidence of ADA compliance with respect to that element.

Dated: February 18, 2004.
R. Alexander Acosta,
Assistant Attorney General for Civil Rights.

[FR Doc. 04-4988 Filed 3-4-04; 8:45 am]

BILLING CODE 4410-13-M